FEDERAL HOUSING FINANCE BOARD

[No. 2002-N-12]

Federal Home Loan Bank Members Selected for Community Support Review

AGENCY: Federal Housing Finance Board.

ACTION: Notice.

SUMMARY: The Federal Housing Finance Board (Finance Board) is announcing the Federal Home Loan Bank (Bank) members it has selected for the 2002-03 third quarter review cycle under the Finance Board's community support requirement regulation. This notice also prescribes the deadline by which Bank members selected for review must submit Community Support Statements to the Finance Board.

DATES: Bank members selected for the 2002-03 third quarter review cycle under the Finance Board's community support requirement regulation must submit completed Community Support Statements to the Finance Board on or before December 13, 2002.

ADDRESSES: Bank members selected for the 2002-03 third quarter review cycle under the Finance Board's community support requirement regulation must submit completed Community Support Statements to the Finance Board either by regular mail at the Office of Supervision, Community Investment & Affordable Housing, Federal Housing Finance Board, 1777 F Street, NW., Washington, DC 20006, or by electronic mail at fitzgeralde@fhfb.gov.

FOR FURTHER INFORMATION CONTACT: Emma J. Fitzgerald, Program Analyst, Office of Supervision, Community Investment & Affordable Housing, by telephone at 202/408-2874, by electronic mail at fitzgeralde@fhfb.gov, or by regular mail at the Federal Housing Finance Board, 1777 F Street, NW., Washington, DC 20006. A telecommunications device for deaf persons (TDD) is available at 202/408-2579.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to the requirements of section 10(g) of the Bank Act, the Finance Board has promulgated a community support requirement regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the December 13, 2002 deadline prescribed in this notice. 12 CFR 944.2(b)(1)(ii) and (c). On or before November 12, 2002, each Bank will notify the members in its district that have been selected for the 2002-03 third quarter community support review cycle that they must complete and submit to the Finance Board by the deadline a Community Support Statement. 12 CFR 944.2(b)(2)(i). The member's Bank will provide a blank Community Support Statement Form, which also is available on the Finance Board's Web site: http://www.fhfb.gov. Upon request, the member's Bank also will provide assistance in completing the Community Support Statement.

The Finance Board has selected the following members for the 2002-03 third quarter community support review cycle:

Member | City | State
Federal Home Loan Bank of Boston—District 1
Collinsville Savings Society | Collinsville | Connecticut.
The Guilford Savings Bank | Guilford | Connecticut.
Tolland Bank | Vernon | Connecticut.
Northwest Community Bank | Winsted | Connecticut.
Bar Harbor Banking and Trust Company | Bar Harbor | Maine.
Calais Federal Savings and Loan Association | Calais | Maine.
Camden National Bank | Camden | Maine.
Damariscotta Bank and Trust Company | Damariscotta | Maine.
Franklin Savings Bank | Farmington | Maine.
Katahdin Trust Company | Patten | Maine.
Peoples Heritage Bank, N.A | Portland | Maine.
Rockland Savings & Loan Association | Rockland | Maine.
Abington Savings Bank | Abington | Massachusetts.
Athol Savings Bank | Athol | Massachusetts.
Boston Bank of Commerce | Boston | Massachusetts.
Capital Crossing Bank | Boston | Massachusetts.
Security Federal Savings Bank | Brockton | Massachusetts.
The Canton Institution for Savings, The Bank of Canton | Canton | Massachusetts.
Clinton Savings Bank | Clinton | Massachusetts.
Danvers Savings Bank | Danvers | Massachusetts.
Lafayette Federal Savings Bank | Fall River | Massachusetts.
The Falmouth Co-operative Bank | Falmouth | Massachusetts.
Florence Savings Bank | Florence | Massachusetts.
Colonial Co-operative Bank | Gardner | Massachusetts.
Hingham Institution for Savings | Hingham | Massachusetts.
Peoples Savings Bank | Holyoke | Massachusetts.
Roxbury Highland Bank | Jamaica Plain | Massachusetts.
Equitable Co-operative Bank | Lynn | Massachusetts.
Mansfield Co-operative Bank | Mansfield | Massachusetts.
Milford Federal Savings & Loan Association | Milford | Massachusetts.
Newton South Co-operative Bank | Newton | Massachusetts.
Northampton Cooperative Bank | Northampton | Massachusetts.
Colonial Federal Savings Bank | Quincy | Massachusetts.
Reading Co-operative Bank | Reading | Massachusetts.
South Shore Savings Bank | South Weymouth | Massachusetts.
Southbridge Savings Bank | Southbridge | Massachusetts.
Family Federal Savings, F.A | Stow | Massachusetts.
Mechanics Co-Operative Bank | Taunton | Massachusetts.
Hometown Bank, a Cooperative Bank | Webster | Massachusetts.
Woronoco Savings Bank | Westfield | Massachusetts.
Bow Mills Bank and Trust | Bow | New Hampshire.
Citizens Bank New Hampshire | Manchester | New Hampshire.
Newport Federal Savings Bank | Newport | Rhode Island.
National Bank of Middlebury | Middlebury | Vermont.
Union Bank | Morrisville | Vermont.
Northfield Savings Bank | Northfield | Vermont.
Merchants Bank | South Burlington | Vermont.
Federal Home Loan Bank of New York—District 2
Audubon Savings Bank | Audubon | New Jersey.
Bogota Savings Bank | Bogota | New Jersey.
Peoples Savings Bank | Bordentown | New Jersey.
Colonial Bank FSB | Bridgeton | New Jersey.
Century Savings Bank | Bridgeton | New Jersey.
NVE Savings Bank | Englewood | New Jersey.
Glen Rock Savings Bank | Glen Rock | New Jersey.
Roma Federal Savings Bank | Hamilton | New Jersey.
Kearny Federal Savings Bank | Kearny | New Jersey.
Schuyler Savings Bank | Kearny | New Jersey.
Lincoln Park Savings & Loan Association | Lincoln Park | New Jersey.
Metuchen Savings Bank | Metuchen | New Jersey.
First Morris Bank and Trust | Morristown | New Jersey.
Boiling Springs Savings Bank | Rutherford | New Jersey.
Gloucester County Federal Savings Bank | Sewell | New Jersey.
Sturdy Savings Bank | Stone Harbor | New Jersey.
Penn Federal Savings Bank | West Orange | New Jersey.
Woodstown National Bank | Woodstown | New Jersey.
Evans National Bank | Angola | New York.
Independence Community Bank | Brooklyn | New York.
Elmira Savings Bank, FSB | Elmira | New York.
Cattaraugus County Bank | Little Valley | New York.
Chinatown Federal Savings Bank | New York | New York.
Abacus Federal Savings Bank | New York | New York.
The Pavilion State Bank | Pavilion | New York.
SI Bank & Trust | Staten Island | New York.
SBU Bank | Utica | New York.
Wallkill Valley FS&LA | Wallkill | New York.
Doral Bank | Catano | Puerto Rico.
Oriental Bank & Trust | San Juan | Puerto Rico.
Federal Home Loan Bank of Pittsburgh—District 3
Altoona First Savings Bank | Altoona | Pennsylvania.
Pennsylvania State Bank | Camp Hill | Pennsylvania.
First Carnegie Deposit | Carnegie | Pennsylvania.
Coatesville Savings Bank | Coatesville | Pennsylvania.
Slovenian S&LA of Franklin-Conemaugh | Conemaugh | Pennsylvania.
First National Community Bank | Dunmore | Pennsylvania.
Halifax National Bank | Halifax | Pennsylvania.
Peoples National Bank | Hallstead | Pennsylvania.
Polonia Bank | Huntingdon Valley | Pennsylvania.
Mauch Chunk Trust Company | Jim Thorpe | Pennsylvania
1st Summit Bank | Johnstown | Pennsylvania.
Grange National Bank | Laceyville | Pennsylvania.
The First National Bank of McConnellsburg, PA | McConnellsburg | Pennsylvania.
Mifflinburg Bank and Trust Company | Mifflinburg | Pennsylvania.
Union National Community Bank | Mount Joy | Pennsylvania.
The Muncy Bank and Trust Company | Muncy | Pennsylvania.
First Penn Bank | Philadelphia | Pennsylvania.
United American Savings Bank | Pittsburgh | Pennsylvania.
EurekaBank | Pittsburgh | Pennsylvania.
Iron and Glass Bank | Pittsburgh | Pennsylvania.
Slovak Savings Bank | Pittsburgh | Pennsylvania.
Bank Pittsburgh | Pittsburgh | Pennsylvania.
Scottdale Bank and Trust Company | Scottdale | Pennsylvania.
Leesport Bank | Shenandoah | Pennsylvania.
Northwest Savings Bank | Warren | Pennsylvania.
Peoples State Bank of Wyalusing | Wyalusing | Pennsylvania.
City National Bank of West Virginia | Charleston | West Virginia.
Citizens Bank of Morgantown | Morgantown | West Virginia.
First National Bank | Ronceverte | West Virginia.
Advance Financial Savings Bank | Wellsburg | West Virginia.
Federal Home Loan Bank of Atlanta—District 4
The Exchange Bank of Alabama | Altoona | Alabama.
Bank of Alabama | Birmingham | Alabama.
First Commercial Bank | Birmingham | Alabama.
New South Federal Savings Bank | Birmingham | Alabama.
First National Bank | Brewton | Alabama.
Central State Bank | Calera | Alabama.
The Camden National Bank | Camden | Alabama.
The Peoples Bank | Clio | Alabama.
The Commercial Bank of Demopolis | Demopolis | Alabama.
Southland Bank | Dothan | Alabama.
The Southern Bank Company | Gadsden | Alabama.
First National Bank | Hamilton | Alabama.
The Headland National Bank | Headland | Alabama.
Frontier National Bank | Lanett | Alabama.
First State Bank | Lineville | Alabama.
First Citizens Bank | Luverne | Alabama.
Citizens Bank, Inc | Robertsdale | Alabama.
The Slocomb National Bank | Slocomb | Alabama.
First Tuskegee Bank | Tuskegee | Alabama.
First Liberty National Bank | Washington | D.C.
Riggs Bank N.A | Washington | D.C.
Wilmington Trust FSB | Wilmington | Delaware.
Pointe Bank | Boca Raton | Florida.
Bankunited, FSB | Coral Gables | Florida.
Bankatlantic | Fort Lauderdale | Florida.
Natbank N.A | Hollywood | Florida.
American Bank and Trust of Polk County | Lake Wales | Florida.
FloridaFirst Bank | Lakeland | Florida.
Orion Bank | Marathon | Florida.
Security Bank, N.A | Margate | Florida.
Eagle National Bank of Miami | Miami | Florida.
Unibank | Miami | Florida.
Kislak National Bank | Miami Lakes | Florida.
Metro Savings Bank, F.S.B | Orlando | Florida.
First Federal Bank of North Florida | Palatka | Florida.
Bay Bank and Trust | Panama City | Florida.
Federal Trust Bank | Sanford | Florida.
Sarasota Bank | Sarasota | Florida.
Capital City Bank | Tallahassee | Florida.
Bay Financial Savings Bank, F.S.B | Tampa | Florida.
Bank of Alapaha | Alapaha | Georgia.
Athens First Bank and Trust Company | Athens | Georgia.
The Summit National Bank | Atlanta | Georgia.
Georgia Bank and Trust Company of Augusta | Augusta | Georgia.
United Community Bank White County | Blairsville | Georgia.
First Georgia Bank | Brunswick | Georgia.
The First Bank of Brunswick | Brunswick | Georgia.
Planters and Citizens Bank | Camilla | Georgia.
Community Bank and Trust | Cornelia | Georgia.
Newton Federal Savings and Loan Association | Covington | Georgia.
Southeastern Bank | Darien | Georgia.
First National Bank of Coffee County | Douglas | Georgia.
Farmers and Merchants Bank | Eatonton | Georgia.
Elberton Federal Savings & Loan Association | Elberton | Georgia.
Bank of Ellaville | Ellaville | Georgia
1st Community Bank | Fairburn | Georgia.
The Citizens Union Bank | Greensboro | Georgia.
The Coastal Bank | Hinesville | Georgia.
Crescent Bank & Trust Company | Jasper | Georgia.
Pineland State Bank | Metter | Georgia.
First National Bank of the South | Milledgeville | Georgia.
Gateway Bank and Trust | Ringgold | Georgia.
Farmers and Merchants Bank | Statesboro | Georgia.
Spivey State Bank | Swainsboro | Georgia.
Commercial Bank | Thomasville | Georgia.
First Federal Savings and Loan Association | Valdosta | Georgia.
Citizens Bank | Warrenton | Georgia.
Severn Savings Bank, F.S.B | Annapolis | Maryland.
Advance Bank | Baltimore | Maryland.
AmericasBank | Baltimore | Maryland.
FedMed Bank, FSB | Baltimore | Maryland.
Fraternity Federal S&L Association | Baltimore | Maryland.
Hamilton Federal S&L Association | Baltimore | Maryland.
Homewood Federal Savings Bank | Baltimore | Maryland.
Leeds Federal Savings Bank | Baltimore | Maryland.
Provident Bank of Maryland | Baltimore | Maryland.
Saint Casimirs Savings Bank | Baltimore | Maryland.
Presidential Bank, FSB | Bethesda | Maryland.
Peoples Bank of Kent County | Chestertown | Maryland.
The Talbot Bank of Easton | Easton | Maryland.
The Peoples Bank of Elkton | Elkton | Maryland.
Madison and Bradford FS&L Association, Inc | Forest Hills | Maryland.
Eastern Savings Bank, FSB | Hunt Valley | Maryland.
Wyman Park FS&L Association | Lutherville | Maryland.
Valley Bank of Maryland | Owings Mill | Maryland.
Key Bank and Trust | Owings Mills | Maryland.
Enterprise Federal Savings Bank | Oxon Hill | Maryland.
North Arundel Federal Savings Bank, FSB | Pasadena | Maryland.
Baltimore County Savings Bank, F.S.B | Perry Hall | Maryland.
American Bank | Rockville | Maryland.
First Shore FS&L Association | Salisbury | Maryland.
Sykesville Federal Savings Association | Sykesville | Maryland.
Ashburton Federal S & L Association, Inc | Westminster | Maryland.
Equitable Bank | Wheaton | Maryland.
Home Savings Bank, SSB of Eden | Eden | North Carolina.
High Point Bank and Trust Company | High Point | North Carolina.
The Community Bank | Pilot Mountain | North Carolina.
RBC Centura | Rocky Mount | North Carolina.
Piedmont Federal Savings & Loan Association | Winston Salem | North Carolina.
First Palmetto Savings Bank, FSB | Camden | South Carolina.
Spratt Savings and Loan Association | Chester | South Carolina.
Plantation Federal Bank | Pawleys Island | South Carolina.
Woodruff Federal Savings & Loan Association | Woodruff | South Carolina.
Shore Bank | Accomac | Virginia.
Virginia Commerce Bank | Arlington | Virginia.
Bedford Federal Savings Bank | Bedford | Virginia.
First and Citizens Bank | Monterey | Virginia.
Farmers & Merchants Bank, Eastern Shore | Onley | Virginia.
First Federal Savings Bank | Petersburg | Virginia.
Community Bank | Staunton | Virginia.
Southside Bank | Tappahannock | Virginia.
Citizens and Farmers Bank | West Point | Virginia.
Federal Home Loan Bank of Cincinnati—District 5
Kentucky Home Bank, Inc | Bardstown | Kentucky.
Bank of Clarkson | Clarkson | Kentucky.
Citizens F&SLA of Covington | Covington | Kentucky.
Heritage Community Bank | Danville | Kentucky.
South Central Savings Bank, FSB | Edmonton | Kentucky.
The Peoples Bank of Fleming County | Flemingsburg | Kentucky.
State National Bank of Frankfort | Frankfort | Kentucky.
Fredonia Valley Bank | Fredonia | Kentucky.
First Southern National Bank | Lancaster | Kentucky.
Bank of the Bluegrass and Trust Company | Lexington | Kentucky.
Peoples Security Bank | Louisa | Kentucky.
The First Capital Bank of Kentucky | Louisville | Kentucky.
First FS&LA of Morehead | Morehead | Kentucky.
Commonwealth Bank, F.S.B | Mt. Sterling | Kentucky.
Mount Sterling National Bank | Mt. Sterling | Kentucky.
Traditional Bank, Inc | Mt. Sterling | Kentucky.
Farmers National Bank | Walton | Kentucky.
The Apple Creek Banking Company | Apple Creek | Ohio.
Belmont Savings Bank | Bellaire | Ohio.
The Citizens National Bank of Bluffton | Bluffton | Ohio.
The Brookville Building and Savings Association | Brookville | Ohio.
First Federal Community Bank of Bucyrus | Bucyrus | Ohio.
First Federal S&LA of Centerburg | Centerburg | Ohio.
Columbia Savings Bank | Cincinnati | Ohio.
New Foundation Loan and Building Company | Cincinnati | Ohio.
The Franklin Savings and Loan Company | Cincinnati | Ohio.
Warsaw Federal S&LA of Cincinnati | Cincinnati | Ohio.
Charter One Bank, F.S.B | Cleveland | Ohio.
Third FS&LA of Cleveland | Cleveland | Ohio.
United Midwest Savings Bank | DeGraff | Ohio.
Hicksville Building, Loan and Savings Bank | Hicksville | Ohio.
Merchants National Bank | Hillsboro | Ohio.
NCB, FSB | Hillsboro | Ohio.
Home Savings Bank | Kent | Ohio.
Kenwood Savings Bank | Kenwood | Ohio.
First FS&LA of Lakewood | Lakewood | Ohio.
Fairfield Federal S&LA of Lancaster | Lancaster | Ohio.
First National Bank | Lebanon | Ohio.
Leesburg Federal Savings Bank | Leesburg | Ohio.
The First Knox Bank of Mount Vernon | Mt. Vernon | Ohio.
New Carlisle Federal Savings Bank | New Carlisle | Ohio.
The Park National Bank | Newark | Ohio.
The First Savings Bank of Norwood | Norwood | Ohio.
American Savings Bank, fsb | Portsmouth | Ohio.
Home City Federal Savings Bank | Springfield | Ohio.
Belmont National Bank | St. Clairsville | Ohio.
Perpetual Federal Savings Bank | Urbana | Ohio.
Liberty Savings Bank, F.S.B | Wilmington | Ohio.
North Valley Bank | Zanesville | Ohio.
Farmers & Merchants Bank | Adamsville | Tennessee.
Bank of Alamo | Alamo | Tennessee.
First South Credit Union | Bartlett | Tennessee.
Bank of Crockett | Bells | Tennessee.
First Farmers and Merchants National Bank | Columbia | Tennessee.
Decatur County Bank | Decaturville | Tennessee.
First Independent Bank | Gallatin | Tennessee.
Chester County Bank | Henderson | Tennessee.
The Bank of Jackson | Jackson | Tennessee.
People's Community Bank | Johnson City | Tennessee.
Wilson Bank and Trust | Lebanon | Tennessee.
First National Bank of the Cumberlands | Livingston | Tennessee.
Trust One Bank | Memphis | Tennessee.
Citizens Bank | New Tazewell | Tennessee.
Newport Federal Bank | Newport | Tennessee.
Citizens National Bank | Sevierville | Tennessee.
Federal Home Loan Bank of Indianapolis—District 6
Independent Federal Credit Union | Anderson | Indiana.
Boonville Federal Savings Bank | Boonville | Indiana.
First State Bank | Brazil | Indiana.
Riddell National Bank | Brazil | Indiana.
Union Savings and Loan Association | Connersville | Indiana.
Union FS&LA | Crawfordsville | Indiana.
First Federal Savings Bank | Evansville | Indiana.
Pacesetter Bank | Hartford City | Indiana.
MetroBank | Indianapolis | Indiana.
Kentland Federal Savings and Loan Association | Kentland | Indiana.
The La Porte Savings Bank | La Porte | Indiana.
Logansport Savings Bank, FSB | Logansport | Indiana.
Home Bank, F.S.B | Martinsville | Indiana.
Peoples Bank SB | Munster | Indiana.
Farmers State Bank | New Ross | Indiana.
First Bank Richmond, S.B | Richmond | Indiana.
Mid-Southern Savings Bank, FSB | Salem | Indiana.
Owen County State Bank | Spencer | Indiana.
Grant County State Bank | Swayzee | Indiana.
Liberty Savings Bank FSB | Whiting | Indiana.
Homestead Savings Bank, FSB | Albion | Michigan.
Commercial Bank | Alma | Michigan.
Fidelity Bank | Birmingham | Michigan.
Tri-County Bank | Brown City | Michigan.
Monarch Community Bank | Coldwater | Michigan.
Paramount Bank | Farmington Hills | Michigan.
Select Bank | Grand Rapids | Michigan.
Peoples State Bank | Hamtramck | Michigan.
Union Bank | Lake Odessa | Michigan.
Marshall Savings Bank, FSB | Marshall | Michigan.
Peoples State Bank of Munising | Munising | Michigan.
New Buffalo Savings Bank | New Buffalo | Michigan.
Thumb National Bank and Trust | Pigeon | Michigan.
Citizens First Savings Bank | Port Huron | Michigan.
LaSalle Federal Savings Bank | St. Joseph | Michigan.
The First National Bank of Three Rivers | Three Rivers | Michigan.
First National Bank | Wakefield | Michigan.
Federal Home Loan Bank of Chicago—District 7
First Community Bank and Trust | Beecher | Illinois.
First State Bank of Beecher City | Beecher City | Illinois.
Greater Chicago Bank | Bellwood | Illinois.
The First National Bank in Carlyle | Carlyle | Illinois.
BankChampaign, N.A | Champaign | Illinois.
Alliance, FSB | Chicago | Illinois.
Community Savings Bank | Chicago | Illinois.
Illinois Service FS&LA | Chicago | Illinois.
Labe Bank | Chicago | Illinois.
NAB Bank | Chicago | Illinois.
North Federal Savings Bank | Chicago | Illinois.
Oak Bank | Chicago | Illinois.
Pulaski Savings Bank | Chicago | Illinois.
South Central Bank | Chicago | Illinois.
Washington Federal Bank for Savings | Chicago | Illinois.
Family Federal Savings of Illinois | Cicero | Illinois.
West Town Savings Bank | Cicero | Illinois.
The John Warner Bank | Clinton | Illinois.
The Elizabeth State Bank | Elizabeth | Illinois.
Flora Bank & Trust | Flora | Illinois.
Community Bank Wheaton/Glen Ellyn | Glen Ellyn | Illinois.
Illinois State Bank | Lake in the Hills | Illinois.
Heritage State Bank | Lawrenceville | Illinois.
Fairfield Savings Bank, F.S.B | Long Grove | Illinois
1st State Bank of Mason City | Mason City | Illinois.
Mazon State Bank | Mazon | Illinois.
McHenry Savings Bank | McHenry | Illinois.
The City National Bank of Metropolis | Metropolis | Illinois.
First National Bank | Moline | Illinois.
Brown County State Bank | Mount Sterling | Illinois.
Wabash Savings Bank | Mt. Carmel | Illinois.
The Farmers Bank of Mt. Pulaski | Mt. Pulaski | Illinois.
Regency Savings Bank | Oak Park | Illinois.
BankFinancial, FSB | Olympia Fields | Illinois.
Pekin Savings Bank | Pekin | Illinois.
The Herget National Bank of Pekin | Pekin | Illinois.
Peru Federal Savings Bank | Peru | Illinois.
National Bank of Petersburg | Petersburg | Illinois.
Citizens State Bank of Shipman | Shipman | Illinois.
Farmers State Bank of Somonauk | Somonauk | Illinois.
Marine Bank, Springfield | Springfield | Illinois.
Town & Country Bank of Springfield | Springfield | Illinois.
Tremont Savings Bank | Tremont | Illinois.
Banner Banks | Birnamwood | Wisconsin.
Community First Bank | Boscobel | Wisconsin.
North Shore Bank, FSB | Brookfield | Wisconsin.
Dorchester State Bank | Dorchester | Wisconsin.
PremierBan | Fort Atkinson | Wisconsin.
Capital Bank | Green Bay | Wisconsin.
Green Lake State Bank | Green Lake | Wisconsin.
PyraMax Bank | Greenfield | Wisconsin.
Greenleaf Wayside Bank | Greenleaf | Wisconsin.
Hustisford State Bank | Hustisford | Wisconsin.
Mid America Bank | Janesville | Wisconsin.
Union State Bank | Kewaunee | Wisconsin.
Bank of Lake Mills | Lake Mills | Wisconsin.
Bank of Little Chute | Little Chute | Wisconsin.
Rural American Bank—Luck | Luck | Wisconsin.
AnchorBank, fsb | Madison | Wisconsin.
Home Savings Bank | Madison | Wisconsin.
The Peoples State Bank | Mazomanie | Wisconsin.
Bremer, National Association | Menomonie | Wisconsin.
Middleton Community Bank | Middleton | Wisconsin.
Milton Savings Bank | Milton | Wisconsin.
First Community Bank | Milton | Wisconsin.
Maritime Savings Bank | Milwaukee | Wisconsin.
Mutual Savings Bank | Milwaukee | Wisconsin.
West Pointe Bank | Oshkosh | Wisconsin.
Wisconsin State Bank | Random Lake | Wisconsin.
The Reedsburg Bank | Reedsburg | Wisconsin.
Dairy State Bank | Rice Lake | Wisconsin.
Community Business Bank | Sauk City | Wisconsin.
Baylake Bank | Sturgeon Bay | Wisconsin.
Superior Savings Bank | Superior | Wisconsin.
Farmers and Merchants Bank | Tomah | Wisconsin.
Bank of Waunakee | Waunakee | Wisconsin.
West Bend Savings Bank | West Bend | Wisconsin.
First Citizens State Bank | Whitewater | Wisconsin.
Federal Home Loan Bank of Des Moines—District 8
Raccoon Valley State Bank | Adel | Iowa.
Peoples State Bank | Albia | Iowa.
Community Bank | Alton | Iowa.
Bank Iowa | Altoona | Iowa.
First National Bank | Ames | Iowa.
Farmers & Traders Savings Bank | Bancroft | Iowa.
Chelsea Savings Bank | Belle Plaine | Iowa.
Boone Bank & Trust Company | Boone | Iowa.
Prairie State Bank | Brunsville | Iowa.
Guaranty Bank and Trust Company | Cedar Rapids | Iowa.
Cherokee State Bank | Cherokee | Iowa.
First State Bank | Conrad | Iowa.
Dubuque Bank & Trust Company | Dubuque | Iowa.
First Federal Savings Bank of Iowa | Fort Dodge | Iowa.
Gibson Savings Bank | Gibson | Iowa.
Mills County Bank, N.A | Glenwood | Iowa.
Security State Bank | Guttenburg | Iowa.
Farmers Savings Bank | Halbur | Iowa.
Farmers State Bank | Hawarden | Iowa.
First State Bank | Hawarden | Iowa.
Humboldt Trust & Savings Bank | Humboldt | Iowa.
State Central Bank | Keokuk | Iowa.
Heritage Bank | Marion | Iowa.
F&M Bank—Iowa | Marshalltown | Iowa.
Security State Bank | Red Oak | Iowa.
Lincoln Savings Bank | Reinbeck | Iowa.
Sibley State Bank | Sibley | Iowa.
Security State Bank | Stuart | Iowa.
First State Bank | Sumner | Iowa.
Farmers Savings Bank & Trust-Vinton | Vinton | Iowa.
Webster City Federal Savings Bank | Webster City | Iowa.
Community State Bank | West Branch | Iowa.
Citizens State Bank | Wyoming | Iowa.
Farmers State Bank of Adams | Adams | Minnesota.
Bremer Bank, National Association | Alexandria | Minnesota.
State Bank of Aurora | Aurora | Minnesota.
State Bank of Bellingham | Bellingham | Minnesota.
Star Bank, N.A | Bertha | Minnesota.
Farmers and Merchants State Bank | Blooming Prairie | Minnesota.
First National Bank of Blue Earth | Blue Earth | Minnesota.
Canton State Bank | Canton | Minnesota.
First National Bank of Deer River | Deer River | Minnesota.
The First National Bank of Deerwood | Deerwood | Minnesota.
State Bank of Kimball | Kimball | Minnesota.
Lake Elmo Bank | Lake Elmo | Minnesota.
First National Bank Le Center | Le Center | Minnesota.
First State Bank of LeRoy | LeRoy | Minnesota.
Community Federal Savings & Loan Association | Little Falls | Minnesota.
Prairie Sun Bank | Milan | Minnesota.
Peoples National Bank of Mora | Mora | Minnesota.
First Federal Savings Bank | Morris | Minnesota.
United Prairie Bank | New Ulm | Minnesota.
Community National Bank | North Branch | Minnesota.
Northwoods Bank of Minnesota | Park Rapids | Minnesota.
Pine City State Bank | Pine City | Minnesota.
Prior Lake State Bank | Prior Lake | Minnesota.
Minnwest Bank, MV | Redwood Falls | Minnesota.
First Independent Bank | Russell | Minnesota.
United Prairie Bank | Spicer | Minnesota.
Highland Bank | St. Michael | Minnesota.
First National Bank | Thief River Falls | Minnesota.
State Bank of Tower | Tower | Minnesota.
Security State Bank of Wanamingo | Wanamingo | Minnesota.
Belgrade State Bank | Belgrade | Missouri.
Ozark Mountain Bank | Branson | Missouri.
O'Bannon Banking Company | Buffalo | Missouri.
First National Bank | Camdenton | Missouri.
Horizon State Bank | Cameron | Missouri.
Bank 21 | Carrollton | Missouri.
State Bank of Missouri | Concordia | Missouri.
Eminence Security Bank | Eminence | Missouri.
Rockwood Bank | Eureka | Missouri.
Allen Bank & Trust Company | Harrisonville | Missouri.
Sun Security Bank of America | Holts Summit | Missouri.
Jonesburg State Bank | Jonesburg | Missouri.
Missouri Bank & Trust Company | Kansas City | Missouri.
Blue Ridge Bank & Trust Company | Kansas City | Missouri.
Kearney Commercial Bank | Kearney | Missouri.
Neosho Savings and Loan Association, F.A | Neosho | Missouri.
Bank of New Madrid | New Madrid | Missouri.
Charter 1 Bank | Owensville | Missouri.
Ozark Bank | Ozark | Missouri.
Progressive Ozark Bank | Salem | Missouri.
First National Bank of Sarcoxie | Sarcoxie | Missouri.
Security Bank and Trust Company | Scott City | Missouri.
Community State Bank | Shelbina | Missouri.
Central West End Bank | St. Louis | Missouri.
Missouri State Bank and Trust Company | St. Louis | Missouri.
Community Bank, NA | Summersville | Missouri.
Peoples Bank & Trust Company | Troy | Missouri.
The Bank of Urbana | Urbana | Missouri.
The Missouri Bank | Warrenton | Missouri.
Security Bank of Pulaski County | Waynesville | Missouri.
Farmers & Merchants Bank of Wright City | Wright City | Missouri.
First State Bank of North Dakota | Arthur | North Dakota.
Security State Bank of North Dakota | Jamestown | North Dakota.
The Goose River Bank | Mayville | North Dakota.
Bremer Bank, NA | Minot | North Dakota.
The First State Bank of Munich | Munich | North Dakota.
Liberty State Bank | Powers Lake | North Dakota.
Dacotah Bank | Valley City | North Dakota.
Dakota Heritage State Bank | Chancellor | South Dakota.
The First Western Bank Custer | Custer | South Dakota.
Reliabank Dakota | Estelline | South Dakota.
Campbell County Bank, Inc | Herreid | South Dakota.
Plains Commerce Bank | Hoven | South Dakota.
First State Bank of Miller | Miller | South Dakota.
CorTrust Bank, National Association | Mitchell | South Dakota.
American State Bank | Oldham | South Dakota.
American State Bank of Pierre | Pierre | South Dakota.
Farmers and Merchants State Bank | Plankinton | South Dakota.
First Premier Bank | Sioux Falls | South Dakota.
Valley Bank, N.A | Sioux Falls | South Dakota.
The First Western Bank Sturgis | Sturgis | South Dakota.
Commercial State Bank | Wagner | South Dakota.
First Western Bank Wall | Wall | South Dakota.
Federal Home Loan Bank of Dallas—District 9
Elk Horn Bank & Trust Company | Arkadelphia | Arkansas.
First National Bank of Howard County | Dierks | Arkansas.
Merchants and Farmers Bank | Dumas | Arkansas.
Planters & Merchants Bank | Gillett | Arkansas.
Calhoun County Bank | Hampton | Arkansas.
Community First Bank | Harrison | Arkansas.
The Cleburne County Bank | Heber Springs | Arkansas.
One Bank & Trust | Little Rock | Arkansas.
Pinnacle Bank | Little Rock | Arkansas.
Pulaski Bank & Trust Company | Little Rock | Arkansas.
Farmers Bank & Trust | Magnolia | Arkansas.
Union Bank and Trust Company | Monticello | Arkansas.
Newport Federal Savings Bank | Newport | Arkansas.
Priority Bank | Ozark | Arkansas.
United Bank | Springdale | Arkansas.
Farmers & Merchants Bank | Stuttgart | Arkansas.
Abbeville Building and Loan | Abbeville | Louisiana.
The Business Bank of Baton Rouge | Baton Rouge | Louisiana.
Community Trust Bank | Choudrant | Louisiana.
Crowley Building & Loan Association | Crowley | Louisiana.
United Community Bank | Gonzales | Louisiana.
Central Progressive Bank | Hammond | Louisiana.
The Union Bank | Marksville | Louisiana.
Horizons Bank | Monroe | Louisiana.
IberiaBank | New Iberia | Louisiana.
Crescent Bank & Trust | New Orleans | Louisiana.
Fidelity Homestead Association | New Orleans | Louisiana.
Citizens Bank & Trust Company | Plaquemine | Louisiana.
Iberville Building & Loan Association | Plaquemine | Louisiana.
Bank of Zachary | Zachary | Louisiana.
Magnolia State Bank | Bay Springs | Mississippi.
State Bank and Trust Company | Greenwood | Mississippi.
The First National Bank of South Mississippi | Hattiesburg | Mississippi.
Grand Bank for Savings, FSB | Hattiesburg | Mississippi.
Trustmark National Bank | Jackson | Mississippi.
OmniBank | Jackson | Mississippi.
Citizens Bank & Trust Company | Louisville | Mississippi.
BankFirst Financial Services | Macon | Mississippi.
Bank of New Albany | New Albany | Mississippi.
Bank of Okalona | Okalona | Mississippi.
First Federal Savings and Loan | Pascagoula | Mississippi.
Bank of Yazoo City | Yazoo City | Mississippi.
Union Savings Bank | Albuquerque | New Mexico.
Western Bank of Clovis | Clovis | New Mexico.
Gallup Federal Savings Bank | Gallup | New Mexico.
Citizens Bank of Las Cruces | Las Cruces | New Mexico.
The Bank of Las Vegas | Las Vegas | New Mexico.
Century Bank, FSB | Santa Fe | New Mexico.
IBM Texas Employees Federal Credit Union | Austin | Texas.
Franklin Bank, SSB | Austin | Texas.
Lamar Bank | Beaumont | Texas.
The First National Bank of Beeville | Beeville | Texas.
Bonham State Bank | Bonham | Texas.
Shelby Savings Bank, ssb | Center | Texas.
Chappell Hill Bank | Chappell Hill | Texas.
Charter Bank Northwest | Corpus Christi | Texas.
First Security State Bank | Cranfils Gap | Texas.
First National Bank of Crockett | Crockett | Texas.
First National Bank in Dalhart | Dalhart | Texas.
First State Bank of North Texas | Dallas | Texas.
Inwood National Bank | Dallas | Texas.
First Command Bank | Fort Worth | Texas.
Pioneer National Bank | Fredericksburg | Texas.
First State Bank | Happy | Texas.
Henderson Federal Savings Association | Henderson | Texas.
Coastal Bank ssb | Houston | Texas.
Community State Bank | Houston | Texas.
Encore Bank | Houston | Texas.
Riverway Bank | Houston | Texas.
State Bank | La Grange | Texas.
Spring Hill State Bank | Longview | Texas.
Angelina Savings Bank, FSB | Lufkin | Texas.
Northeast National Bank | Mesquite | Texas.
Guaranty Bank | Mt. Pleasant | Texas.
Olympic Savings Association | Refugio | Texas.
First State Bank | Stratford | Texas.
Alliance Bank | Sulphur Springs | Texas.
First State Bank Central Texas | Temple | Texas.
First Federal Savings & Loan | Tyler | Texas.
First National Bank of Weatherford | Weatherford | Texas.
Horizon Capital Bank | Webster | Texas.
Federal Home Loan Bank of Topeka—District 10
Colorado Central Credit Union | Arvada | Colorado.
Valley Bank & Trust | Brighton | Colorado.
Farmers State Bank of Calhan | Calhan | Colorado.
BankWest | Castle Rock | Colorado.
Castle Rock Bank | Castle Rock | Colorado.
FirstBank of Colorado Springs | Colorado Springs | Colorado
1st National Bank of Durango | Durango | Colorado.
First National Bank of Flagler | Flagler | Colorado.
Morgan Federal Bank | Fort Morgan | Colorado.
Colorado Federal Savings Bank | Greenwood Village | Colorado.
Colorado East Bank & Trust | Lamar | Colorado.
First National Bank in Lamar | Lamar | Colorado.
The First National Bank of Anthony | Anthony | Kansas.
Guaranty State Bank & Trust Company | Beloit | Kansas.
Beverly State Bank | Beverly | Kansas.
Caldwell State Bank | Caldwell | Kansas.
The Elk State Bank | Clyde | Kansas.
Peoples Exchange Bank | Concordia | Kansas.
Citizens Bank, N.A | Fort Scott | Kansas.
Citizens State Bank and Trust Company | Hiawatha | Kansas.
Central Bank and Trust Company | Hutchinson | Kansas.
Inter-State FS&LA of Kansas City | Kansas City | Kansas.
Kanza Bank | Kingman | Kansas.
Citizens Savings and Loan Association, FSB | Leavenworth | Kansas.
First Savings Bank, F.S.B | Manhattan | Kansas.
First State Bank | Norton | Kansas.
First FS&LA of Olathe | Olathe | Kansas.
First Option Bank | Osawatomie | Kansas.
Valley State Bank | Roeland Park | Kansas.
The Roxbury Bank | Roxbury | Kansas.
The Columbian Bank and Trust Company | Topeka | Kansas.
The First National Bank | Ainsworth | Nebraska.
Community Bank | Alma | Nebraska.
Auburn State Bank | Auburn | Nebraska.
Bruning State Bank | Bruning | Nebraska.
Butte State Bank | Butte | Nebraska.
South Central State Bank | Campbell | Nebraska.
First National Bank and Trust Company | Columbus | Nebraska.
City Bank & Trust Company | Crete | Nebraska.
Cedar Security Bank | Fordyce | Nebraska.
Pinnacle Bank | Gretna | Nebraska.
Security Home Bank | Malmo | Nebraska.
Security National Bank of Omaha | Omaha | Nebraska.
Commercial Federal Bank | Omaha | Nebraska.
Horizon Bank | Waverly | Nebraska.
Bank of Yutan | Yutan | Nebraska.
First National Bank & Trust Company of Ardmore | Ardmore | Oklahoma.
Citizens Security Bank & Trust Company | Bixby | Oklahoma.
Chickasha Bank & Trust Company | Chickasha | Oklahoma.
First Bank and Trust | Clinton | Oklahoma.
The First Bank of Haskell | Haskell | Oklahoma.
Republic Bank of Norman | Norman | Oklahoma.
First National Bank of Oklahoma | Oklahoma City | Oklahoma.
Lakeside State Bank | Oologah | Oklahoma.
First American Bank and Trust Company | Purcell | Oklahoma.
Sulphur Community Bank | Sulphur | Oklahoma.
Federal Home Loan Bank of San Francisco—District 11
Valley Independent Bank | El Centro | California.
Xerox Federal Credit Union | El Segundo | California.
Fremont Bank | Fremont | California.
Commercial Capital Bank, FSB | Irvine | California.
American First Credit Union | La Habra | California.
International City Bank | Long Beach | California.
California National Bank | Los Angeles | California.
Fidelity Federal Bank, A FSB | Los Angeles | California.
First Commerce Bank | Los Angeles | California.
National Bank of California | Los Angeles | California.
Preferred Bank | Los Angeles | California.
U.S. Trust Company of CA | Los Angeles | California.
Modesto Commerce Bank | Modesto | California.
The Vintage Bank | Napa | California.
Oak Valley Community Bank | Oakdale | California.
United Labor Bank | Oakland | California.
Palm Desert National Bank | Palm Desert | California.
Mid-Peninsula Bank | Palo Alto | California.
Malaga Bank | Palos Verdes Estates | California.
PFF Bank & Trust | Pomona | California.
Summit State Bank | Rohnert Park | California.
California S&L, AFA | San Francisco | California.
Pacific Business Bank | Santa Fe Springs | California.
Monterey Bank Bay | Watsonville | California.
Federal Home Loan Bank of Seattle—District 12
Northrim Bank | Anchorage | Alaska.
Northern Schools Federal Credit Union | Fairbanks | Alaska.
BankPacific, Ltd. | Hagatna | Guam.
Finance Factors, Limited | Honolulu | Hawaii.
Hawaii State Federal Credit Union | Honolulu | Hawaii.
The Bank of Commerce | Idaho Falls | Idaho.
Ireland Bank | Malad | Idaho.
First Federal Savings Bank of Twin Falls | Twin Falls | Idaho.
United Bank, N.A | Absarokee | Montana.
Wells Fargo Bank Wyoming, N.A | Billings | Montana.
Pioneer Federal Savings and Loan Association | Dillon | Montana.
Pacific Continental Bank | Eugene | Oregon.
First FS&LA of McMinnville | McMinnville | Oregon.
Albina Community Bank | Portland | Oregon.
Community First Bank | Prineville | Oregon.
Bank of American Fork | American Fork | Utah.
Home Savings Bank | Salt Lake City | Utah.
TransWest Credit Union | Salt Lake City | Utah.
Horizon Bank | Bellingham | Washington.
Bank of Fairfield | Fairfield | Washington.
Timberland Bank | Hoquiam | Washington.
Kitsap Bank | Port Orchard | Washington.
Puyallup Valley Bank | Puyallup | Washington.
First Savings Bank of Renton | Renton | Washington.
HomeStreet Bank | Seattle | Washington.
Washington First International Bank | Seattle | Washington.
Bank of Star Valley | Afton | Wyoming.
Wyoming Bank and Trust Company | Buffalo | Wyoming.
Oregon Trail Bank | Guernsey | Wyoming.
First National Bank & Trust | Powell | Wyoming.
First National Bank, Torrington | Torrington | Wyoming.
Pinnacle Bank, Wyoming | Torrington | Wyoming.

II. Public Comments

To encourage the submission of public comments on the community support performance of Bank members, on or before November 12, 2002, each Bank will notify its Advisory Council and nonprofit housing developers, community groups, and other interested parties in its district of the members selected for community support review in the 2002-03 third quarter review cycle. 12 CFR 944.2(b)(2)(ii). In reviewing a member for community support compliance, the Finance Board will consider any public comments it has received concerning the member. 12 CFR 944.2(d). To ensure consideration by the Finance Board, comments concerning the community support performance of members selected for the 2002-03 third quarter review cycle must be delivered to the Finance Board on or before the December 13, 2002 deadline for submission of Community Support Statements.

By the Federal Housing Finance Board.

Dated: October 18, 2002.
Arnold Intrater,
General Counsel.

[FR Doc. 02-26925 Filed 10-24-02; 8:45 am]

BILLING CODE 6725-01-P